DEPARTMENT OF COMMERCE

International Trade Administration

[A-533-869]

Certain New Pneumatic Off-the-Road Tires from India: Amended Final Results of Antidumping Duty Administrative Review; 2022-2023

AGENCY: Enforcement and Compliance, International Trade Administration, Department of Commerce.

SUMMARY: The U.S. Department of Commerce (Commerce) is amending the final results of the administrative review of the antidumping duty order on certain new pneumatic off-the-road tires from India (OTR tires) from India to correct a ministerial error. The period of review (POR) is March 1, 2022, through February 28, 2023.

DATES: Applicable November 18, 2024.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On October 17, 2024, Commerce published the Final Results, in the Federal Register.¹ On October 15, 2024, we received a timely submitted ministerial error allegation from Titan Tire Corporation (the petitioner).² We received no other ministerial error comments from interested parties. Because we agree that we made a ministerial error in the Final Results, we are amending the Final Results to correct the ministerial error the petitioner alleged.

¹ See Certain New Pneumatic Off-the-Road Tires from India: Final Results of Antidumping Duty Administrative Review; 2022-2023, 89 FR 83641 (October 17, 2024) (Final Results), and accompanying Issues and Decision Memorandum (IDM).

² See Petitioner's Letter, “Ministerial Error Comments,” dated October 15, 2024 (Ministerial Error Comments).

Legal Framework

Section 751(h) of the Tariff Act of 1930, as amended (the Act), defines a “ministerial error” as including “errors in addition, subtraction, or other arithmetic function, clerical errors resulting from inaccurate copying, duplication, or the like, and any other unintentional error which the administering authority considers ministerial.” ³ With respect to final results of administrative reviews, 19 CFR 351.224(e) provides that Commerce “will analyze any comments received and, if appropriate, correct any . . . ministerial error by amending the final results of review. . .”

³ See 19 CFR 351.224(f).

Ministerial Error

In the Final Results, we determined that a startup adjustment was not warranted for ATC Tires Private Limited/ATC AP Tires Private Limited (collectively, ATC) and we stated our intention to disallow ATC's claimed startup adjustment in our calculations for the Final Results.⁴ In its Ministerial Error Comments, the petitioner alleged that, in revising ATC's total cost of manufacturing (TOTCOM) to remove the startup adjustment, Commerce inadvertently granted the startup adjustment in the Final Results.⁵

⁴ See Final Results IDM at Comment 3.

⁵ See Ministerial Error Comments at 3.

We agree with the petitioner that we made a ministerial error in the Final Results, pursuant to section 751(h) of the Act and 19 CFR 51.224(f) and have amended our calculations to remove ATC's startup adjustment from TOTCOM. Pursuant to 19 CFR 351.224(e) and section 751(h) of the Act, we are amending the Final Results to correct this ministerial error in the calculation of the weighted-average dumping margin for ATC, which changes from 2.62 percent to 2.66 percent. Furthermore, in the Final Results, we calculated the weighted-average dumping margin for the companies that were not selected for individual examination as the weighted average of the dumping margins determined for the two mandatory respondents, weighted by their publicly ranged U.S. sales values.⁶ Thus, based on the revised weighted-average dumping margins calculated for ATC,⁷ we are also amending the rate for the companies not selected for individual examination in this review, which changes from 2.63 percent to 2.67 percent.⁸

⁶ See Final Results, 89 FR at 83641.

⁷ The margin for the other mandatory respondent, Asian Tire Factory Ltd./Lyallpur Rubber Mills (collectively, ATF), remains unchanged from the Final Results and continues to be 2.76 percent.

⁸ See Memorandum, “Calculation of the Amended Final Cash Deposit Rate for Non-Selected Companies,” dated concurrently with this notice (Amended Non-Selected Companies Rate Memorandum).

For a complete discussion of the ministerial error allegation, as well as Commerce's analysis, see the accompanying Ministerial Error Memorandum.⁹ The Ministerial Error Memorandum is on file electronically via ACCESS. ACCESS is available to registered users at https://access.trade.gov.

⁹ See Memorandum, “Analysis of Ministerial Error Allegation,” dated concurrently with, and hereby adopted by, this notice (Ministerial Error Memorandum); see also Memorandum, “Amended Final Results Analysis Memorandum for ATC Tires Private Limited,” dated concurrently with this notice.

¹⁰ See Appendix for a full list of these companies.

Amended Final Results of Review

As a result of correcting the ministerial error described above, we determine the following estimated weighted-average dumping margins for the period March 1, 2022, through February 28, 2023:

Exporter or producer | Weighted- average dumping margin (percent)
ATC Tires Private Limited; ATC Tires AP Private Limited | 2.66
Companies Not Selected for Individual Review ¹⁰ | 2.67

Disclosure

Commerce intends to disclose the calculations performed for ATC in connection with these amended final results of review to interested parties within five days of any public announcement or, if there is no public announcement, within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the amended final results of this review.

Pursuant to 19 CFR 351.212(b)(1), because ATC reported the entered value of its U.S. sales, we calculated importer-specific ad valorem duty assessment rates based on the ratio of the total amount of dumping calculated for the examined sales to the total entered value of the sales for which entered value was reported. Where an importer- (or customer-) specific rate is zero or de minimis within the meaning of 19 CFR 351.106(c)(1), we will instruct CBP to liquidate the appropriate entries without regard to antidumping duties.

Commerce's “automatic assessment” practice will apply to entries of subject merchandise during the POR produced by ATC for which it did not know that the merchandise it sold to the intermediary (e.g., a reseller, trading company, or exporter) was destined for the United States. In such instances, we will instruct CBP to liquidate unreviewed entries at the all-others rate if there is no rate for the intermediate company(ies) involved in the transaction.

For the companies listed in the appendix which were not selected for individual examination in this review, we will assign an assessment rate based on the review specific rate, which is equal to the weighted average of the dumping margins calculated for ATC in these amended final results and ATF in the Final Results.¹¹

¹¹ See Amended Non-Selected Companies Rate Memorandum.

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the Final Results of this administrative review, as provided by section 751(a)(2)(C) of the Act: (1) the amended cash deposit rate for ATC and the other companies not individually examined in this review will be equal to the weighted-average dumping margin that is established in the amended final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, or the less than-fair-value (LTFV) investigation, but the manufacturer is, the cash deposit rate will be the cash deposit rate established for the most recently completed segment for the producer of the subject merchandise; and (4) the cash deposit rate for all other producers or exporters will continue to be zero percent, the all-others rate established in the LTFV investigation.¹² These deposit requirements, when imposed, shall remain in effect until further notice.

¹² See Certain Now Pneumatic Off-the-Road Tires from India: Antidumping Duly Order, 82 FR 12553 (March 6, 2017), 82 FR at 12554 (the dumping margin of 3.67 percent assigned to all other producers/exporters was adjusted for export subsidies found in the companion countervailing duty investigation, resulting in an adjusted cash deposit rate of zero percent).

Notification to Importers

This notice also serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Administrative Protective Order

This notice serves as the final reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: November 8, 2024.
Abdelali Elouaradia,
Deputy Assistant Secretary for Enforcement and Compliance.

Appendix

Companies Not Selected for Individual Examination Receiving the Review-Specific Rate

1. Apollo Tyres Ltd.

2. Balkrishna Industries Ltd.¹³

¹³ Subject merchandise produced and exported by Balkrishna Industries Ltd. (BKT) was excluded from the Order. See Certain New Pneumatic Off-the-Road Tires from India: Notice of Correction to Antidumping Duty Order, 82 FR 25598 (June 2, 2017). Accordingly, BKT is only covered by this administrative review for subject merchandise produced in India where BKT acted as either the manufacturer or exporter (but not both).

3. CEAT Ltd.

4. Emerald Resilient Tyre Manufacturer

5. HRI Tires India

6. JK Tyres and Industries Ltd.

7. K.R.M. Tyres

8. Mahansaria Tyres Private Limited

9. MRF Limited

10. MRL Tyres Limited (Malhotra Rubbers Ltd.)

11. Speedways Rubber Company

12. TVS Srichakra Limited

[FR Doc. 2024-26769 Filed 11-15-24; 8:45 am]

BILLING CODE 3510-DS-P